DEPARTMENT OF THE INTERIOR

Fish and Wildlife Service

North American Wetlands Conservation Council Meeting Announcement

AGENCY: Fish and Wildlife Service, Interior.

ACTION: Notice of meeting.

SUMMARY: The North American Wetlands Conservation Council (Council) will meet to select North American Wetlands Conservation Act (NAWCA) grant proposals for recommendation to the Migratory Bird Conservation Commission (Commission). The meeting is open to the public.

DATES: March 9, 2004, 1-4 pm.

ADDRESSES: The meeting will be held at the Ni Source, 801 East 86th Avenue, Merrillville, Indiana. The Council Coordinator is located at the U.S. Fish and Wildlife Service, 4401 N. Fairfax Drive, Mail Stop: MBSP 4501-4075, Arlington, Virginia 22203.

FOR FURTHER INFORMATION CONTACT: David A. Smith, Council Coordinator, (703) 358-1784 or dbhc@fws.gov.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Proposal due dates, application instructions, and eligibility requirements are available through the NAWCA Web site at http://birdhabitat.fws.gov. Proposals require a minimum of 50 percent non-Federal matching funds. Canadian and U.S. Small grant proposals will be considered at the Council meeting. The tentative date for the Commission meeting is June 16, 2004.

Dated: February 17, 2004.
Paul Schmidt,
Assistant Director—Migratory Birds and State Programs.

[FR Doc. 04-4295 Filed 2-25-04; 8:45 am]

BILLING CODE 4310-55-P